DEPARTMENT OF ENERGY

Federal Energy Regulatory Commission

[Project No. P-14721-000]

The City of Springfield; Notice of Preliminary Permit Application Accepted for Filing and Soliciting Comments, Motions To Intervene, and Competing Applications

On October 13, 2015, the City of Springfield, Massachusetts (Springfield) filed an application for a preliminary permit, pursuant to section 4(f) of the Federal Power Act (FPA), proposing to study the feasibility of the Watershops Pond Dam Hydroelectric Project (project) to be located on the Mill River, near Springfield, Hampden County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 105-foot-long, 32-foot-high, concrete and masonry gravity Watershops Pond dam; (2) an existing 198-acre impoundment with a normal maximum water surface elevation of 155 feet above mean sea level; (3) a new 7-foot-long, 4-foot-wide steel penstock; (4) a new 100-foot-long, 30-foot-wide powerhouse containing a single turbine generator unit with an installed capacity of 145 kilowatts; (5) a new 800-foot-long, 0.48-kilovolt transmission line; and (6) appurtenant facilities. The project would have an estimated average annual energy generation of 707 megawatt-hours. There are no federal lands associated with the project.

Applicant Contact: Mr. Peter J. Garvey, Director, Department of Capital Asset Construction, 36 Court Street, Room 312, Springfield, Massachusetts 01103; phone: (413) 787-6445.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14721-000.

More information about this project, including a copy of the application, can be viewed or printed on the “eLibrary” link of Commission's Web site at http://www.ferc.gov/docs-filing/elibrary.asp. Enter the docket number (P-14721) in the docket number field to access the document. For assistance, contact FERC Online Support.

Dated: January 14, 2016.
Nathaniel J. Davis, Sr.,
Deputy Secretary.

[FR Doc. 2016-01118 Filed 1-20-16; 8:45 am]

BILLING CODE 6717-01-P